DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene its Law Enforcement Advisory Panel (LEAP) in conjunction with the Gulf States Marine Fisheries Commission's Law Enforcement Committee (LEC).

DATES: The meeting will convene at 8:30 a.m. on Wednesday, July 25, 2012 and conclude no later than 5 p.m. on Thursday, July 26, 2012.

ADDRESSES: The meeting will be held at the Louisiana Wildlife & Fisheries Lab, 195 Ludwig Lane, Grand Isle, LA 70358; telephone: (985) 787-2163.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Gulf of Mexico Fishery Management Council will convene the Law Enforcement Advisory Panel along with the Gulf States Marine Fisheries Commission's Law Enforcement Committee to consider the status of recently completed amendments and other regulatory actions as well as the scheduled completion of ongoing actions. The two groups will also receive a presentation regarding issues related to the Gulf Council's Individual Fishing Quota Programs and discuss the National Center for Disaster Fraud/Gulf Coast. They will review the status of Joint Enforcement Agreements and enforcement efforts by the states under these agreements. The LEAP/LEC will also consider having a Summer Work Session to develop a 2013-16 Strategic Plan and a 2013-14 Operations Plan. Finally, the group will discuss Gulf seafood trace and trip ticket enforcement and receive reports of the state and federal members. Other activities related to the Gulf States Marine Fisheries Commission's Interjurisdictional Fisheries Program and Law Enforcement Summary will also be discussed.

The Law Enforcement Advisory Panel consists of principal law enforcement officers in each of the Gulf States, as well as the NOAA Law Enforcement, U.S. Fish and Wildlife Service (FWS), the U.S. Coast Guard, and the NOAA General Counsel for Law Enforcement. A copy of the agenda and related materials can be obtained by calling the Council office at (813) 348-1630.

Although other non-emergency issues not on the agendas may come before the Law Enforcement Advisory Panel for discussion, in accordance with the Magnuson-Stevens Fishery Conservation and Management Act (Magnuson-Stevens Act), those issues may not be the subject of formal action during this meeting. Actions of the Law Enforcement Advisory Panel will be restricted to those issues specifically identified in the agendas and any issues arising after publication of this notice that require emergency action under Section 305(c) of the Magnuson-Stevens Act, provided the public has been notified of the Council's intent to take action to address the emergency.

Special Accommodations

These meetings are physically accessible to people with disabilities. Requests for sign language interpretation or other auxiliary aids should be directed to Kathy Pereira at the Council (see ADDRESSES) 5 working days prior to the meeting.

Dated: July 2, 2012.
Tracey L. Thompson,
Acting Director, Office of Sustainable Fisheries, National Marine Fisheries Service.

[FR Doc. 2012-16553 Filed 7-5-12; 8:45 am]

BILLING CODE 3510-22-P